Title 3—

The President

Proclamation 8759 of November 21, 2011

50th Anniversary of the United States Agency for International Development

By the President of the United States of America

A Proclamation

This year, the United States Agency for International Development (USAID) commemorates 50 years of progress dedicated to saving lives, building partnerships, and promoting peace and prosperity for the developing world and the American people.

Since President John F. Kennedy founded USAID in 1961, the men and women of USAID have worked on the front lines of poverty and conflict to support communities and countries as they build a better future. By promoting sustainable growth in the developing world, we spur new markets abroad and energize our economy here at home. By encouraging good governance, we empower transparency, accountability, and strong institutions that are responsive to citizens’ needs. By driving innovations in agriculture, education, and global health, we strengthen global stability and advance our national security. And by delivering aid in the wake of natural disasters and humanitarian crises, we express the generosity and goodwill that unite us as a people.

The impact of these efforts is remarkable. In the past five decades, USAID has helped developing countries across the globe transform into stable and prosperous nations, vibrant trading partners, and foreign assistance donors themselves. These countries stand as beacons of hope for people striving toward democracy, free economies, and respect for human rights. The critical work of USAID enables these transitions forward, helping prevent and end conflict around the world.

Even after these successes, we know there is more to do. To advance America’s interests and promote global development, USAID has instituted a series of ambitious reforms that will bring new partnerships, a greater emphasis on innovation, and a relentless focus on real results. These actions will help ensure we invest every development dollar in the most effective, efficient, and transparent way possible. And they will ensure that those with the greatest needs in this world are extended a helping hand from the American people.

On this anniversary, we honor the men and women of USAID whose dedication to public service has improved millions of lives around the world, and we honor the vision of those whose spirit of innovation has opened new frontiers in the global fight against hunger, poverty, and disease. As USAID continues to shape a brighter future for generations to come, its mission will remain of vital importance to our Nation.

NOW, THEREFORE, I, BARACK OBAMA, President of the United States of America, by virtue of the authority vested in me by the Constitution and the laws of the United States, do hereby proclaim the 50th Anniversary of the United States Agency for International Development. I call upon all Americans to observe this anniversary with appropriate programs, ceremonies, and activities that honor USAID and its workers, past and present, for their enduring commitment to a safer, more peaceful world.

IN WITNESS WHEREOF, I have hereunto set my hand this twenty-first day of November, in the year of our Lord two thousand eleven, and of the Independence of the United States of America the two hundred and thirty-sixth.

[FR Doc. 2011-30722

Filed 11-25-11; 8:45 am]

Billing code 3295-F2-P